SECURITIES AND EXCHANGE COMMISSION

[Release No. 34-53951A; File No. SR-NYSEArca-2006-23]

Self-Regulatory Organizations; NYSE Arca, Inc.; Notice of Filing of Proposed Rule Change Relating to a Pilot Program for NYSE Arca BBO Data

June 20, 2006.

Correction

In FR Document No. 06-5301 beginning on page 33500 for Friday, June 9, 2006, the 34 Release number was incorrectly stated. The correct number is 34-53951.

Nancy M. Morris,
Secretary.

[FR Doc. 06-5639 Filed 6-23-06; 8:45 am]

BILLING CODE 8010-01-M